DEPARTMENT OF HOMELAND SECURITY

[Docket No. DHS-2008-0077]

National Protection and Programs Directorate; Infrastructure Protection Data Call Survey; Correction

AGENCY: National Protection and Programs Directorate, DHS.

ACTION: Notice; correction.

SUMMARY: On December 22, 2009, the Department of Homeland Security (DHS), National Protection and Programs Directorate (NPPD), Office of Infrastructure Protection (IP), Infrastructure Information Collection Division (IICD) published a 60-day comment period notice in the Federal Register at 74 FR 68070-68071 seeking comments for an information collection entitled, “IP Data Call.” This is a correction notice to correct the title of the published 60-day notice to read, “IP Data Call Survey.” There are no further updates. This correction notice is issued as required by the Paperwork Reduction Act of 1995.

Thomas Chase Garwood, III,
Chief Information Officer, National Protection and Programs Directorate, Department of Homeland Security.

[FR Doc. 2010-17277 Filed 7-14-10; 8:45 am]

BILLING CODE 9110-9P-P